DEPARTMENT OF TRANSPORTATION

Federal Motor Carrier Safety Administration

[FMCSA Docket No. FMCSA-2002-13294]

The Application by the Weirton Steel Corporation for Exemption From the Federal Motor Carrier Safety Regulations (FMCSRs)

AGENCY: Federal Motor Carrier Safety Administration (FMCSA), (DOT).

ACTION: Notice of application for exemption; request for comments.

SUMMARY: The FMCSA announces that the agency has received an application from the Weirton Steel Corporation (Weirton) for an exemption from all of the FMCSRs applicable to the operation of commercial motor vehicles in interstate commerce. The company believes that its safety management controls and its safety performance record suggest that it would achieve a level of safety equivalent to or greater than that achieved by complying with the applicable safety regulations. The exemption, if granted, would preempt inconsistent State and local requirements applicable to interstate commerce.

DATES: We must receive your comments on or before January 27, 2003.

ADDRESSES: You can mail or hand deliver comments to the U.S. Department of Transportation, Dockets Management Facility, Room PL'401, 400 Seventh Street, SW., Washington, DC 20590'0001. You can also submit comments at http://dmses.dot.gov. Please include the docket number that appears in the heading of this document. You can examine and copy this document and all comments received at the same Internet address or at the Dockets Management Facility from 9 a.m. to 5 p.m., e.t., Monday through Friday, except Federal holidays. If you want to know that we received your comments, please include a self-addressed, stamped postcard.

FOR FURTHER INFORMATION CONTACT: Mr. Larry W. Minor, Office of Bus and Truck Standards and Operations, (202) 366-4009, Federal Motor Carrier Safety Administration, 400 Seventh Street, SW., Washington, DC. 20590-0001. Office hours are from 7:45 a.m. to 4:15 p.m., e.t., Monday through Friday, except Federal holidays.

SUPPLEMENTARY INFORMATION:

Background

Sections 31315 and 31136 of title 49 of the United States Code (U.S.C.) provide the FMCSA with authority to grant exemptions from the Federal Motor Carrier Safety Regulations (FMCSRs). An exemption provides relief from one or more FMCSRs to a person or class of persons subject to the regulations. An exemption provides relief for up to two years and may be renewed. Sections 31315 and 31136(e) of 49 U.S.C. require the agency to consider whether the terms and conditions for the exemption would achieve a level of safety that is equivalent to, or greater than, the level of safety that would be obtained by complying with the regulations when evaluating applications for exemptions. The regulations at 49 CFR part 381 establish the procedures to be followed to apply for exemptions from the FMCSRs, and the provisions used to process them.

The FMCSA must publish a notice in the Federal Register for each exemption requested, explain the request that has been filed; provide the public with an opportunity to inspect the safety analysis and any other relevant information known to the agency; and request public comment on the exemption. When granting a request for an exemption, the agency must publish a notice in the Federal Register identifying the person or class of persons who will receive the exemption, the provisions from which the person will be exempt, the effective period and all terms and conditions of the exemption. The terms and conditions established by the FMCSA must ensure that the exemption will likely achieve a level of safety that is equivalent to, or greater than, the level that would be achieved by complying with the regulation.

Weirton's Application for an Exemption

Weirton submitted a request for exemptions from all the safety requirements of Subchapter B of Chapter III, Title 49 of the Code of Federal Regulations, commonly referred to as the FMCSRs. A copy of the application is in the docket listed in the heading of this notice.

According to the application, Weirton's 44 drivers transport steel coils between the company's mill and its warehouse. The maximum distance the coils are transported is approximately 6 miles. From the warehouse, an outside carrier transports the coils to the customers.

Furthermore, Weirton asserts that its drivers travel primarily under “urban” conditions with traffic lights at almost every corner. The terrain is flat and the posted speed limit is 25 mph. In addition, the drivers work an 8-hour shift with an average of 3 hours of driving time during the shift. The company has operated in the city of Weirton since 1909. The application indicates that no company official or union official is aware of any fatigue-related accidents involving the company's drivers.

Weirton believes that in order to comply with Federal safety regulations, the company must hire more drivers. The company requests the exemption because its safety management controls and safety performance suggest that the Federal safety regulations are not necessary for their operations. Weirton believes it is capable of achieving an equivalent or greater level of safety through its management practices.

Request for Comments

In accordance with 49 U.S.C. 31315(b)(4) and 31136(e), FMCSA requests public comment from all interested parties on Weirton's application for an exemption from all of the safety requirements of Subchapter B to Chapter III, title 49 of the CFR. The agency may grant or deny the application based on the comments received, and any other relevant information that is available to the agency.

Issued on: December 20, 2002.
Annette M. Sandberg,
Deputy Director.

[FR Doc. 02-32785 Filed 12-26-02; 8:45 am]

BILLING CODE 4910-EX-P